NUCLEAR REGULATORY COMMISSION

[NRC-2009-0487]

Notice of Opportunity for Public Comment on the Proposed Model Safety Evaluation for Plant-Specific Adoption of Technical Specification Task Force Traveler-493, Revision 4, “Clarify Application of Setpoint Methodology for LSSS Functions”

AGENCY: Nuclear Regulatory Commission (NRC).

ACTION: Notice of opportunity for public comment.

SUMMARY: The NRC is requesting public comment on the enclosed proposed model application, model no significant hazards consideration determination, and model safety evaluation for plant-specific adoption of Technical Specification Task Force (TSTF) Traveler-493, Revision 4, “Clarify Application of Setpoint Methodology for LSSS Functions.” The TSTF Traveler-493, Revision 4, is available in the Agencywide Documents Access and Management System (ADAMS) under Accession Number ML092150990. The proposed changes revise Standard Technical Specifications (STS) with respect to limiting safety system settings (LSSSs) assessed during periodic testing and calibration of instrumentation that may have an adverse effect on equipment operability. This model safety evaluation will facilitate expedited approval of plant-specific adoption of TSTF Traveler-493, Revision 4.

DATES: Comment period expires November 25, 2009. Comments received after this date will be considered, if it is practical to do so, but the Commission is able to ensure consideration only for comments received on or before this date.

ADDRESSES: You may submit comments by any one of the following methods. Please include Docket ID NRC-2009-0487 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0487. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Proposed Models for Plant-Specific Adoption of TSTF Traveler-493, Revision 4, are available electronically under ADAMS Accession Number ML093080028.

Federal Rulemaking Web site: Public comments and supporting materials related to this notice can be found at http://www.regulations.gov by searching on Docket ID: NRC-2009-0487.

FOR FURTHER INFORMATION CONTACT: Ms. Michelle C. Honcharik, Senior Project Manager, Special Projects Branch, Mail Stop: O-12 D1, Division of Policy and Rulemaking, Office of Nuclear Reactor Regulation, U.S. Nuclear Regulatory Commission, Washington, DC 20555-0001; telephone 301-415-1774 or e-mail at michelle.honcharik@nrc.gov.

SUPPLEMENTARY INFORMATION:

Background

This notice provides an opportunity for the public to comment on proposed changes to the STS after a preliminary assessment and finding by the NRC staff that the agency will likely offer the changes for adoption by licensees. This notice solicits comment on a proposed change to the STS, which if implemented by a licensee will modify the plant-specific TS. The NRC staff will evaluate any comments received for the proposed change to the STS and reconsider the change or announce the availability of the change for adoption by licensees. Licensees opting to apply for this TS change are responsible for reviewing the NRC staff's safety evaluation, referencing the applicable technical justifications, and providing any necessary plant-specific information. The NRC will process and note each amendment application responding to the notice of availability according to applicable NRC rules and procedures.

Applicability

TSTF Traveler-493, Revision 4, is applicable to all nuclear power reactors. The Traveler revises the TS instrument function values related to those variables that have a significant safety function.

The NRC staff requests that each licensee applying for the changes proposed in TSTF Traveler-493, Revision 4, include documentation regarding the following in their license amendment request (LAR):

Adoption of TSTF Traveler-493, Option A With Changes to Setpoint Values

• The licensee must propose to add footnotes to all the functions identified in TSTF Traveler-493, Revision 4, Appendix A, and must incorporate the related TS Bases changes.

• The licensee must provide summary calculations for the revised setpoints as documentation of the plant-specific instrument setpoint methodology for TSTF Traveler-493, Revision 4, consistent with Option A. This includes the calculation basis for the Limiting Trip Setpoint (LTSP), Nominal Trip Setpoint (NTSP), Allowable Value (AV), As-Found Tolerance band, and As-Left Tolerance band for each change to an automatic protection instrumentation function setpoint value. If multiple similar setpoints are proposed to be revised, a summary calculation for each type of setpoint being changed may be provided, if the LAR contains a reasoned quantitative or qualitative analysis, as appropriate, of how the summary calculation(s) represent the type of setpoint values proposed to be changed.

Adoption of TSTF Traveler-493, Option A Without Changes to Setpoint Values

• The licensee must add footnotes to all the functions identified in TSTF Traveler-493, Revision 4, Appendix A, and must incorporate the related TS Bases changes. No changes to any setpoint values are proposed. Since no setpoint changes are being proposed, there is no requirement to provide the setpoint methodology for review or to provide any full or summary calculations.

Adoption of TSTF Traveler-493 With Option B—the Setpoint Control Program Option

• The licensee must provide the plant-specific evaluation for the list of instrument Functions that are described in Setpoint Control Program (SCP) TS 5.5.[18] Paragraph a and must incorporate the related TS Bases changes.

• The licensee must provide the content and application of the plant-specific setpoint methodology required by the SCP TS 5.5.[18] Paragraph b. This includes the calculation basis for the LTSP, NTSP, AV, As-Found Tolerance band, and As-Left Tolerance band for each automatic protection instrumentation function. The licensee must also describe the program methods for ensuring the requirements in Paragraph d will function as required by verifying the As-Left and As-Found settings are consistent with those established by the setpoint methodology. Discussion should include how the plant licensing basis meets the guidance provided in Regulatory Information Summary 2006-17, “NRC Staff Position on the Requirements of 10 CFR 50.36, “Technical Specifications,” Regarding Limiting Safety System Settings During Periodic Testing and Calibration of Instrument Channels” and Regulatory Guide 1.105, Revision 3, “Setpoints for Safety-Related Instrumentation.” Describe the measures to be taken to ensure that the associated instrument channel is capable of performing its safety function(s) in accordance with applicable design requirements and associated analyses. Include information on the controls employed to ensure that the As-Left trip setting after completion of periodic surveillance is consistent with the setpoint methodology. Also, discuss the plant corrective action processes (including plant procedures) for restoring channels to operable status. If the controls are located in a document other than the TS (e.g., plant test procedure), describe how it is ensured that the controls will be implemented.

• The licensee must provide the plant-specific evaluation identifying the Functions required by SCP TS 5.5.[18] Paragraph d. In accordance with Paragraph d, Functions described in SCP TS 5.5.[18] Paragraph a are evaluated to identify Functions that are automatic protective devices related to variables having significant safety functions as delineated by 10 CFR 50.36(c)(1)(ii)(A). Identify any deviation from TSTF Traveler-493, Revision 4, and explain the basis for each deviation. Paragraph d contains three exclusion criteria to be applied during the evaluation. Paragraph d also requires specifying TS Surveillance Requirements which are applicable to the performance testing criterion of Paragraph d. This requirement of Paragraph d should also be included. For Functions which are not under the scope of Setpoint Control Program Paragraph d, but are included in Setpoint Control Program Paragraph a, explain how the requirements of Paragraph c will be met.

The proposed change does not prevent licensees from requesting an alternate approach or proposing changes other than those proposed in TSTF Traveler-493, Revision 4. However, significant deviations from the approach recommended in this notice or the inclusion of additional changes to the license require additional NRC staff review. This may increase the time and resources needed for the review or result in NRC staff rejection of the LAR. Licensees desiring significant deviations or additional changes should instead submit an LAR that does not claim to adopt TSTF Traveler-493, Revision 4.

Dated at Rockville, Maryland, this 30th day of October 2009.
For the Nuclear Regulatory Commission.
Eric E. Bowman,
Acting Chief, Special Projects Branch, Division of Policy and Rulemaking, Office of Nuclear Reactor Regulation.

[FR Doc. E9-27061 Filed 11-9-09; 8:45 am]

BILLING CODE 7590-01-P